DEPARTMENT OF THE INTERIOR

National Park Service

Notice of Inventory Completion for Native American Human Remains and Associated Funerary Objects from Cherokee and Plymouth Counties, IA in the Possession of the Office of the State Archaeologist, University of Iowa, Iowa City, IA

AGENCY: National Park Service

ACTION: Notice

Notice is hereby given in accordance with provisions of the Native American Graves Protection and Repatriation Act (NAGPRA), 43 CFR 10.9, of the completion of an inventory of human remains and associated funerary objects in the possession of the Office of the State Archaeologist, University of Iowa, Iowa City, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of the State Archaeologist, University of Iowa, professional staff in consultation with representatives of the Three Affiliated Tribes of the Fort Berthold Reservation, North Dakota.

Around 1900, human remains representing one individual were removed from an unknown site by an unknown collector and donated to the Davenport Academy of Sciences, now the Putnam Museum of History and Natural Science. In 1986, these human remains were transferred to the Office of the State Archaeologist, University of Iowa. No known individuals were identified. No associated funerary objects are present.

Physical anthropological evidence, especially the shape and measurements of the skull, indicates that this individual is Native American, and is consistent with ancestral Arikara populations of the Bad River I phase of the Post-Contact Coalescent variant. The records of the Putnam Museum of History and Natural Science indicate that these remains may have come from the Dakotas. In the absence of additional evidence, geographical and physical anthropology information has been used to determine the cultural affiliation between these human remains and the Arikara, who today are members of the Three Affiliated Tribes of the Fort Berthold Reservation, North Dakota.

In the 1950's, human remains representing one individual were removed from site 13CK21, Cherokee County, IA, by Reynold Ruppe under the auspices of the Northwest Chapter of the Iowa Archaeological Society, and transferred to the Office of the State Archaeologist, University of Iowa, in 1989. In 1993, human remains representing three individuals were removed from this site by the Office of the State Archaeologist during a salvage excavation of a flood-damaged portion of the site. No known individuals were identified. No associated funerary objects are present.

In 1964, human remains representing three individuals were removed from site 13PM172, Plymouth County, IA, during excavations by David Lilly and Roger Banks. These remains were transferred from the Sioux City Public Museum to the Office of the State Archaeologist, University of Iowa, in 1994. No known individuals were identified. The one associated funerary object is a Mill Creek pottery vessel.

Sites 13CK21 and 13PM172 both date to the Mill Creek period, circa A.D. 1000-1200. Mill Creek manifestations have long been grouped within the Initial variant of the Middle Missouri Tradition. Mill Creek settlement organization, subsistence economy, and artifact assemblages are similar to those of other Initial Middle Missouri components in South Dakota. The Mandan and Hidatsa are thought to be the long-term residents of the Middle Missouri region, and some archeologists have suggested the Initial variant of the Middle Missouri tradition is possibly ancestral to the Mandan and Hidatsa tribes. Archeological and ethnohistorical evidence linking later Middle Missouri groups with these tribes, presently members of the Three Affiliated Tribes of the Fort Berthold Reservation, North Dakota, is much stronger than evidence available for the earlier Initial variant groups.

Based on the above-mentioned information, officials of the Office of the State Archaeologist, University of Iowa, have determined that, pursuant to 43 CFR 10.2 (d)(1), the human remains listed above represent the physical remains of eight individuals of Native American ancestry. Officials of the Office of the State Archeologist, University of Iowa, also have determined that, pursuant to 43 CFR 10.2 (d)(2), the one object listed above is reasonably believed to have been placed with or near individual human remains at the time of death or later as part of the death rite or ceremony. Lastly, officials of the Office of the State Archeologist, University of Iowa, have determined that, pursuant to 43 CFR 10.2 (e), there is a relationship of shared group identity that can be reasonably traced between these Native American human remains and associated funerary object and the Three Affiliated Tribes of the Fort Berthold Reservation, North Dakota. This notice has been sent to officials of the Three Affiliated Tribes of the Fort Berthold Reservation, North Dakota. Representatives of any other Indian tribe that believes itself to be culturally affiliated with these human remains and associated funerary object should contact Shirley Schermer, Burials Program Director, Office of the State Archaeologist, Eastlawn, University of Iowa, Iowa City, IA 52242, telephone (319) 335-2400, before September 28, 2000. Repatriation of the human remains and associated funerary object to the Three Affiliated Tribes of the Fort Berthold Reservation, North Dakota, may begin after that date if no additional claimants come forward.

Dated: August 16, 2000.
John Robbins,
Assistant Director, Cultural Resources Stewardship and Partnerships

[FR Doc. 00-21977 Filed 8-28-00; 8:45 am]

BILLING CODE 4310-70-F